DEPARTMENT OF COMMERCE

National Oceanic and Atmospheric Administration

RIN 0648-XO01

Magnuson-Stevens Act Provisions; General Provisions for Domestic Fisheries; Application for Exempted Fishing Permits

AGENCY: National Marine Fisheries Service (NMFS), National Oceanic and Atmospheric Administration (NOAA), Commerce.

ACTION: Notification of a proposal to conduct exempted fishing; request for comments.

SUMMARY: The Assistant Regional Administrator for Sustainable Fisheries, Northeast Region, NMFS (Assistant Regional Administrator), has made a preliminary determination that the subject Exempted Fishing Permit (EFP) application that was submitted by the Gulf of Maine Research Institute (GMRI) warrants further consideration and should be issued for public comment. The EFP would exempt participating vessels from the seasonal Atlantic herring (herring) Management Area 1A and Management Area 1B quota closures, seasonal Management Area 1A gear restrictions, and herring trip possession limits. The Assistant Regional Administrator has also made a preliminary determination that the activities authorized under the EFP would be consistent with the goals and objectives of the Atlantic Herring Fishery Management Plan (FMP). However, further review and consultation may be necessary before a final determination is made.

DATES: Comments must be received on or before April 8, 2009.

ADDRESSES: Comments may be submitted by e-mail to herring.efp@noaa.gov. Include in the subject line of the e-mail comment the following document identifier: “Comments on GMRI herring EFP.” Written comments should be sent to Patricia A. Kurkul, Regional Administrator, NMFS, Northeast Regional Office, 55 Great Republic Drive, Gloucester, MA 01930. Mark the outside of the envelope, “Comments on GMRI herring EFP.” Comments may also be sent via facsimile (fax) to (978) 281-9135.

FOR FURTHER INFORMATION CONTACT: Cheryl McGarrity, Fishery Management Specialist, phone: 978-281-9174, fax: 978-281-9135.

SUPPLEMENTARY INFORMATION: The Science and Research Director for NMFS's Northeast Fisheries Science Center selected the proposal submitted by GMRI under the 2008-2009 Atlantic Herring Research Set-Aside (RSA) Program entitled: “Effects of Fishing on Herring Aggregations,” which would assess the effects of midwater trawling on herring aggregations. An EFP was issued to conduct this work in 2008, and this EFP would authorize exemptions for Year 2 of this research. The proposed research would examine the ability to evaluate potential impacts of midwater trawling on Atlantic herring aggregations through the use of hydroacoustics. Due to concern that other fishing vessels, particularly other herring midwater trawl vessels, fishing in the study area could interfere with the survey, GMRI submitted an EFP application to conduct its research during the midwater gear restriction period, thereby ensuring other midwater trawl vessels will not be fishing in the study area.

GMRI requests that a pair of trawl vessels perform midwater trawling for up to four sampling trips (each of 5-days duration) using standard midwater trawl gear in Areas 1A and 1B between June 1 and September 30, 2008, to evaluate the behavioral response of isolated herring schools to midwater trawls. During a sampling trip, the research team would sequentially perform a series of acoustic surveys, conduct midwater pair trawling, then perform another series of acoustic surveys; which would take less than 72 hr. Vessels would conduct five or fewer tows per day, with each tow lasting 2 to 4 hr. All trawling operations would be monitored by GMRI staff. All herring caught during the survey would be deducted from GMRI's Area 1A and 1B herring RSA allocations of 2,976,240 lb (1,350 mt) and 661,380 lb (300 mt), respectively. Vessels conducting the survey would not be allowed to exceed their Area 1A or Area 1B RSA allocations.

The subject EFP would exempt vessels fishing for herring in Management Area 1A and Management Area 1B from quota closures and herring trip possession limits, as specified at 50 CFR 648.201 and 648.204, respectively. It would also exempt vessels from the seasonal Management Area 1A trawl gear restriction period (restriction period), as defined at § 648.202(a). Fish caught during research trips would be landed under the set-aside quota awarded to GMRI. Herring caught as part of this research would be deducted from the RSA quota, not from the commercial quota.

Regulations under the Magnuson-Stevens Fishery Conservation and Management Act require publication of this notification to provide interested parties the opportunity to comment on applications for proposed EFPs. The applicant may place requests for minor modifications and extensions to the EFP throughout the year. EFP modifications and extensions may be granted without further notice if they are deemed essential to facilitate completion of the proposed research and minimal so as not to change the scope or impact of the initially approved EFP request.

Authority: 16 U.S.C. 1801 et seq.

Dated: March 19, 2009.
Emily H. Menashes,
Acting Director, Office of Sustainable Fisheries, National Marine Fisheries Service.

[FR Doc. E9-6409 Filed 3-23-09; 8:45 am]

BILLING CODE 3510-22-S